DEPARTMENT OF COMMERCE

International Trade Administration

(A-357-812)

Honey from Argentina: Rescission of Antidumping Duty New Shipper Review

AGENCY: Import Administration, International Trade Administration, Department of Commerce.

SUMMARY: On February 4, 2005, the Department of Commerce (the Department) published the initiation of a new shipper review of the antidumping duty order on honey from Argentina covering the period December 1, 2003, to December 31, 2004. See Honey From Argentina: Initiation of New Shipper Antidumping Duty Administrative Review, (New Shipper Initiation), 70 FR 5965 (February 4, 2005). This review covers one exporter, El Mana S.A. (El Mana) of Argentina. For the reasons discussed below and in an our accompanying Rescission Memorandum, we are rescinding this new shipper review in its entirety.

EFFECTIVE DATE: December 2, 2005.

FOR FURTHER INFORMATION CONTACT: David Cordell or Robert James, AD/CVD Operations, Office 7, Import Administration, International Trade Administration, U.S. Department of Commerce, 14th Street and Constitution Avenue, NW, Washington, DC 20230; telephone: (202) 482- 0408 and (202) 482-0469, respectively.

SUPPLEMENTARY INFORMATION:

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and customs purposes, the Department's written description of the merchandise subject to this order is dispositive.

Background

On December 30, 2004, the Department received a letter from El Mana, an exporter, requesting that the Department conduct a new shipper review of the antidumping duty order on honey from Argentina. On January 31, 2005, the Department initiated this antidumping new shipper review covering the period December 1, 2003, to December 31, 2004. See Honey From Argentina: Initiation of New Shipper Antidumping Duty Administrative Review, 70 FR 5965 (February 4, 2005). On February 8, 2005, the Department issued sections A-C of the Department's antidumping questionnaire to El Mana. El Mana responded to the Department's questionnaires on March 3 and March 4, 2005 (section A), and March 21, 2005 (sections B and C) (QR). On February 8, 2005, the Department issued a questionnaire to the importer of record for the U.S. sale at issue. The importer responded on March 21, 2005.

On April 26, 2005, the Department issued its first supplemental questionnaire to El Mana. El Mana responded on May 19, 2005. The Department issued a second supplemental questionnaire to El Mana on May 24, 2005, to which El Mana responded on May 31, 2005. The Department then requested additional information on June 20, 2005, to which El Mana filed its response on July 5, 2005. Petitioners submitted comments to the supplemental questionnaire responses (SQR) on July 8, 2005. On July 25, 2005, the Department issued a final supplemental questionnaire, to which El Mana responded on August 12, 2005.

On June 23, 2005, the Department published a notice of extension of the time limit for the completion of the preliminary results until November 28, 2005. See 70 FR 36374.

On September 26, the Department issued a memorandum “New Shipper Review of the Antidumping Duty Order on Honey from Argentina: Intent to Rescind the Review with Respect to El Mana. “ On October 6, 2005, both petitioners (the American Honey Producers Association and the Sioux Honey Association) and the respondent El Mana provided comments to our stated intent to rescind. On October 11, 2005, both petitioners and respondent issued rebuttal comments. On October 14, 2005, petitioners provided additional comments concerning new information in respondent's rebuttal comments. On November 10, 2005, the Department rejected El Mana's rebuttal comments dated October 11, 2005, and asked El Mana to resubmit the rebuttal comments without reference to the new information included in the October 11, 2005, submission. At the same time, the Department rejected petitioners additional comments, dated October 14, 2005, as they included references to the new information referenced by El Mana in its October 11, 2005, submission. El Mana refiled its rebuttal comments on November 15, 2005, and these were also rejected for the same reasons. Subsequently, El Mana refiled the comments on November 16, 2005.

Analysis of New Shipper Review

On September 26, 2005, the Department issued a memorandum detailing our intent to rescind this review because we preliminarily determined the cooperative that supplied El Mana with the subject merchandise knew, or should have known, that the final destination of the subject merchandise was the United States. See Memorandum to Barbara E. Tillman, entitled “New Shipper Review of the Antidumping Duty Order on Honey from Argentina: Intent to Rescind the Review with Respect to El Mana,” dated August September 26, 2005 (Intent to Rescind Memorandum).

The Department preliminarily determined the cooperative had in its possession at the time of sale of the subject merchandise to El Mana, labels indicating the final destination of the subject merchandise as the United States. The totality of the facts on the record led the Department to conclude that the cooperative had or should have had knowledge that the merchandise was destined for the United States. The Department stated that because there was no request for a review of the cooperative's sale to El Mana and because El Mana made no other sales during the POR, the Department intended to rescind the current new shipper review of El Mana.

Rescission of New Shipper Review

For the reasons stated in the accompanying Rescission Memorandum and as outlined above, and pursuant to section 751(a)(2)(B) and 19 CFR 351.214(f), we are rescinding this new shipper review. Parties can find a complete discussion of the issues raised in this new shipper review and the corresponding recommendations in this memorandum, which is on file in the Central Records Unit, room B-099 of the main Commerce Building. Since the Department is rescinding the new shipper review, we are not calculating a company-specific rate for El Mana.

Notification

The Department will notify U.S. Customs and Border Protection (CBP) that bonding is no longer permitted to fulfill security requirements for shipments of Argentine honey by El Mana entered, or withdrawn from warehouse, for consumption in the United States on or after the publication of this rescission notice in the Federal Register, and that a cash deposit of 30.24 percent ad valorem should be collected for any entries exported by El Mana.

We are issuing and publishing this determination and notice in accordance with sections 751(a)(2)(B) and 777(i) of the Act.

Dated: November 28, 2005.
Stephen J. Claeys,
Acting Assistant Secretary for Import Administration.

Appendix - Rescission Memorandum

1. Cooperative's knowledge of the destination of the merchandise at the time of sale.

2. Date of sale of subject merchandise by El Mana to the U.S. customer.

3. El Mana as a trading company or reseller

4. Other Issues raised by petitioner

[FR Doc. 05-23561 Filed 12-1-05; 8:45 am]

BILLING CODE 3510-DS-S